DEPARTMENT OF STATE

[Public Notice: 11054]

Notice of Determinations; Additional Culturally Significant Objects Imported for Exhibition—Determinations: “Malangatana: Mozambique Modern” Exhibition

SUMMARY: On November 15, 2019, notice was published on page 62561 of the Federal Register (volume 84, number 221) of determinations pertaining to certain objects to be included in an exhibition entitled “Malangatana: Mozambique Modern.” Notice is hereby given of the following determinations: I hereby determine that certain additional objects to be included in the exhibition “Malangatana: Mozambique Modern,” imported from abroad for temporary exhibition within the United States, are of cultural significance. The additional objects are imported pursuant to a loan agreement with the foreign owner or custodian. I also determine that the exhibition or display of the additional exhibit objects at the Art Institute of Chicago, Chicago, Illinois, from on or about March 22, 2020, until on or about July 5, 2020, and at possible additional exhibitions or venues yet to be determined, is in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2020-04096 Filed 2-27-20; 8:45 am]

BILLING CODE 4710-05-P